DEPARTMENT OF DEFENSE

Office of the Secretary

[Transmittal No. 16-72]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Pam Young, DSCA/SA&E-RAN, (703) 697-9107.

The following is a copy of a letter to the Speaker of the House of Representatives, Transmittal 16-72 with attached Policy Justification and Sensitivity of Technology.

Dated: December 9, 2016.
Aaron Siegel,
Alternate OSD Federal Register Liaison Officer, Department of Defense.

Transmittal No. 16-72

Notice of Proposed Issuance of Letter of Offer Pursuant to Section 36(b)(1) of the Arms Export Control Act, as amended

(i) Prospective Purchaser: Poland

(ii) Total Estimated Value:

Major Defense Equipment * | $ 110 million
Other | $ 90 million
TOTAL | $ 200 million

(iii) Description and Quantity or Quantities of Articles or Services under Consideration for Purchase:

Major Defense Equipment (MDE):

Seventy (70) AGM-158B Joint Air-to-Surface Standoff Missiles Extended Range (JASSM-ER)

Two (2) AGM-158B Flight Test Vehicles—Live Fire with TIK & FTS

Two (2) AGM-158B Mass Simulant Vehicles

One (1) AGM-158B Flight Test Vehicle—Captive Carry

Three (3) AGM-158B Separation Test Vehicles

Non-MDE includes:

Two (2) AGM-158B Weapon System Simulators, F-16 operational flight plan upgrade for the Polish F- 16C/D, JASSM-ER integration, missile containers, spare and repair parts, support and test equipment, publications and technical documentation, personnel training and training equipment, U.S. Government and contractor engineering, technical and logistics support services, and other related elements of logistical and program support.

(iv) Military Department: Air Force (X7-D-YAD)

(v) Prior Related Cases, if any: PL-D-SAC, PL-D-YAB and amendments

(vi) Sales Commission, Fee, etc., Paid, Offered, or Agreed to be Paid: None

(vii) Sensitivity of Technology Contained in the Defense Article or Defense Services Proposed to be Sold: See Annex Attached

(viii) Date Report Delivered to Congress: November 28, 2016

* as defined in Section 47(6) of the Arms Export Control Act.

POLICY JUSTIFICATION

Poland—JASSM-ER with Support

The Government of Poland has requested a possible sale of seventy (70) AGM-158B Joint Air-to-Surface Standoff Missiles Extended Range (JASSM-ER), two (2) AGM-158B Flight Test Vehicles, two (2) AGM-158B Mass Simulant Vehicles, one (1) AGM-158B Flight Test Vehicle—Captive Carry, three (3) AGM-158B Separation Test Vehicles. Also included are two (2) AGM-158B Weapon System Simulators, F-16 operational flight plan upgrade for the Polish F- 16C/D, JASSM-ER integration, missile containers, spare and repair parts, support and test equipment, publications and technical documentation, personnel training and training equipment, U.S. Government and contractor engineering, technical and logistics support services, and other related elements of logistical and program support. The total estimated program value is $200 million.

The proposed sale will contribute to the foreign policy and the national security objectives of the United States by helping to improve the security of a NATO ally. Poland continues to be an important force for political stability and economic progress in Central Europe.

The proposed sale will improve Poland's capability to meet current and future threats of enemy air and ground weapons systems. Poland will use the enhanced capability as a deterrent to regional threats and to strengthen its homeland defense. These weapon and capabilities upgrades will allow Poland to strengthen its air-to-ground strike capabilities and increase its contribution to future NATO operations. Poland will have no difficulty absorbing these missiles into its armed forces.

The proposed sale of this equipment and support will not alter the basic military balance in the region.

The prime contractor will be the Lockheed Martin of Ft. Worth, Texas. There are no known offset agreements proposed in connection with this potential sale.

Implementation of this proposed sale will not require the assignment of any additional U.S. Government or contractor representatives to Poland.

There will be no adverse impact on U.S. defense readiness as a result of this proposed sale.

Transmittal No. 16-72

Notice of Proposed Issuance of Letter of Offer Pursuant to Section 36(b)(l) of the Arms Export Control Act

Annex

Item No. vii

(vii) Sensitivity of Technology:

1. The AGM-158B JASSM ER is an extended range low-observable, highly survivable subsonic cruise missile designed to penetrate next generation air defense systems en-route to target. It is designed to kill hard, medium-hardened, soft and area type targets. The extended range over the baseline was obtained by going from a turbo jet to a turbo-fan engine and by reconfiguring the fuel tanks for added capacity. Classification of the technical data and information on the AGM-158's performance, capabilities, systems, sub-systems, operations, and maintenance will range from UNCLASSIFIED to SECRET.

2. If a technologically advanced adversary were to obtain knowledge of the specific hardware and software elements, the information could be used to develop countermeasures that might reduce weapon system effectiveness or be used in the development of a system with similar or advanced capabilities.

3. A determination has been made that Poland can provide substantially the same degree of protection for the sensitive technology being released as the U.S. Government. This proposed sale is necessary to further the US foreign policy and national security objectives outlined in the Policy Justification.

4. All defense articles and services listed in this transmittal are authorized for release and export to Poland.

[FR Doc. 2016-29954 Filed 12-13-16; 8:45 am]

BILLING CODE 5001-06-P